DEPARTMENT OF VETERANS AFFAIRS

[OMB Control No. 2900—NEW]

Agency Information Collection Activity: Accelerated Aging Among Vietnam-Era Veterans Survey

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each new collection, and allow 60 days for public comment in response to the notice.

DATES: Written comments and recommendations on the proposed collection of information should be received on or before September 4, 2018.

ADDRESSES: Submit written comments on the collection of information through Federal Docket Management System (FDMS) at www.Regulations.gov or to Brian McCarthy, Office of Regulatory and Administrative Affairs (10B4), Department of Veterans Affairs, 810 Vermont Avenue NW, Washington, DC 20420 or email to Brian.McCarthy4@va.gov. Please refer to “OMB Control No. 2900—NEW” in any correspondence. During the comment period, comments may be viewed online through FDMS.

FOR FURTHER INFORMATION CONTACT: Brian McCarthy at (202) 615-9241.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: 38 U.S.C. 527.

Title: Accelerated Aging among Vietnam-Era Veterans Survey.

OMB Control Number: 2900—NEW.

Type of Review: New collection.

Abstract: The National Center for PTSD (NCPTSD) was recently allocated funds by Congress to be used for research to advance the prevention and treatment of PTSD. The original language of the legislation states the following: “The committee recognizes the importance of the VA National Center for PTSD in promoting better prevention, diagnoses, and treatment of PTSD.” In response to this, we have developed a study that aims to understand how and the degree to which warzone deployment is associated with increased morbidity and mortality, with particular attention to potential differences among white, black, and Hispanic Veterans, as well as male and female Veterans. To this end, we will consider multiple aspects of military service, deployment experiences, and current stressors of Vietnam-era Veterans in relation to current physical and mental health outcomes. This information will directly inform intervention efforts aimed at prevention or treatment of chronic disorders such as PTSD, depression, and substance/alcohol use disorders, as well as comorbid physical health conditions, particularly in underserved portions of our Veteran population. This type of information can inform system-wide interventions that can maximize Veterans' likelihood of receiving timely and evidence-based healthcare, thereby preventing long-term health problems.

Affected Public: Individuals and households.

Estimated Annual Burden: Mail Survey: 3,420 hours. Telephone Survey: 2,738 hours.

Estimated Average Burden per Respondent: Mail Survey: 45 minutes. Telephone Survey: 45 minutes.

Frequency of Response: Annually.

Estimated Number of Respondents: Mail Survey: 4,560. Telephone Survey: 3,650.

By direction of the Secretary:
Cynthia D. Harvey-Pryor,
Department Clearance Officer, Office of Quality, Privacy and Risk, Department of Veterans Affairs.

[FR Doc. 2018-14319 Filed 7-2-18; 8:45 am]

BILLING CODE 8320-01-P